DEPARTMENT OF ENERGY

Federal Energy Regulatory Commission

Combined Notice of Filings #1

Take notice that the Commission received the following electric rate filings:

Docket Numbers: ER11-2731-001.

Applicants: Heritage Stoney Corners Wind Farm I, LLC.

Description: Compliance filing: Heritage Stoney Corners Wind Farm I, LLC Change in Status to be effective 10/12/2019.

Filed Date: 10/11/19.

Accession Number: 20191011-5146.

Comments Due: 5 p.m. ET 11/1/19.

Docket Numbers: ER12-421-002.

Applicants: Heritage Garden Wind Farm I, LLC.

Description: Compliance filing: Heritage Garden Wind Farm I, LLC Change in Status Filing to be effective 10/12/2019.

Filed Date: 10/11/19.

Accession Number: 20191011-5154.

Comments Due: 5 p.m. ET 11/1/19.

Docket Numbers: ER19-2417-001.

Applicants: PJM Interconnection, L.L.C.

Description: Compliance filing: Compliance Filing Pursuant to Commission's September 16, 2019 Order to be effective 9/23/2019.

Filed Date: 10/11/19.

Accession Number: 20191011-5060.

Comments Due: 5 p.m. ET 11/1/19.

Docket Numbers: ER19-2589-001.

Applicants: Appalachian Power Company, PJM Interconnection, L.L.C.

Description: Compliance filing: AEP submits compliance filing per Commission's 9/16/19 Order to be effective 3/6/2019.

Filed Date: 10/11/19.

Accession Number: 20191011-5023.

Comments Due: 5 p.m. ET 11/1/19.

Docket Numbers: ER20-83-000.

Applicants: PJM Interconnection, L.L.C.

Description: Compliance filing: Revisions to OA in compliance with the Commission's 8/26/2019 Order in EL15-79 to be effective 12/10/2019.

Filed Date: 10/10/19.

Accession Number: 20191010-5150.

Comments Due: 5 p.m. ET 10/31/19.

Docket Numbers: ER20-84-000.

Applicants: Evergy Kansas Central, Inc.

Description: § 205(d) Rate Filing: Notice of Succession, Rate Schedules & Service Agreements to be effective 12/9/2019.

Filed Date: 10/10/19.

Accession Number: 20191010-5152.

Comments Due: 5 p.m. ET 10/31/19.

Docket Numbers: ER20-85-000.

Applicants: Evergy Kansas Central, Inc.

Description: § 205(d) Rate Filing: Notice of Succession, Cost-Based Cooperatives to be effective 12/10/2019.

Filed Date: 10/11/19.

Accession Number: 20191011-5000.

Comments Due: 5 p.m. ET 11/1/19.

Docket Numbers: ER20-86-000.

Applicants: Pacific Gas and Electric Company.

Description: Notice of Termination of Small Generator Interconnection Service Agreement No. 410 of Pacific Gas and Electric Company.

Filed Date: 10/10/19.

Accession Number: 20191010-5164.

Comments Due: 5 p.m. ET 10/31/19.

Docket Numbers: ER20-87-000.

Applicants: Pacific Gas and Electric Company.

Description: Notice of Termination of Small Generator Interconnection Service Agreement No. 401 of Pacific Gas and Electric Company.

Filed Date: 10/10/19.

Accession Number: 20191010-5172.

Comments Due: 5 p.m. ET 10/31/19.

Docket Numbers: ER20-88-000.

Applicants: Alabama Power Company.

Description: § 205(d) Rate Filing: Dominion Energy SC 2nd Amended & Restated Interconnection Agreement Filing to be effective 4/29/2019.

Filed Date: 10/11/19.

Accession Number: 20191011-5015.

Comments Due: 5 p.m. ET 11/1/19.

Docket Numbers: ER20-89-000.

Applicants: ISO New England Inc., New England Power Pool Participants Committee.

Description: § 205(d) Rate Filing: ISO-NE and NEPOOL; Fuel Security Retention Limit Revision to be effective 12/11/2019.

Filed Date: 10/11/19.

Accession Number: 20191011-5021.

Comments Due: 5 p.m. ET 11/1/19.

Docket Numbers: ER20-90-000.

Applicants: Midcontinent Independent System Operator, Inc.

Description: § 205(d) Rate Filing: 2019-10-11_SA 3361 Big Rivers Electric-Republic T-T to be effective 9/11/2019.

Filed Date: 10/11/19.

Accession Number: 20191011-5064.

Comments Due: 5 p.m. ET 11/1/19.

Docket Numbers: ER20-92-000.

Applicants: ISO New England Inc., New England Power Pool Participants Committee, Eversource Energy Service Company (as agent),Vermont Electric Power Company, Inc.

Description: § 205(d) Rate Filing: ISO-NE and NEPOOL; Transmission Planning Improvements to be effective 12/10/2019.

Filed Date: 10/11/19.

Accession Number: 20191011-5108.

Comments Due: 5 p.m. ET 11/1/19.

Docket Numbers: ER20-93-000.

Applicants: Heritage Stoney Corners Wind Farm I, LLC.

Description: Compliance filing: Revised MBR and Affiliate Sales Authorization Compliance Filing to be effective 9/12/2019.

Filed Date: 10/11/19.

Accession Number: 20191011-5139.

Comments Due: 5 p.m. ET 11/1/19.

Docket Numbers: ER20-94-000.

Applicants: California Independent System Operator Corporation.

Description: § 205(d) Rate Filing: 2019-10-11 Non-Resource-Specific System Resource RA Resource Bid Gen Amendment to be effective 10/12/2019.

Filed Date: 10/11/19.

Accession Number: 20191011-5156.

Comments Due: 5 p.m. ET 11/1/19.

Take notice that the Commission received the following qualifying facility filings:

Docket Numbers: QF20-46-000.

Applicants: Eco Green Generation LLC.

Description: Form 556 of Eco Green Generation LLC [Clean Power #4].

Filed Date: 10/11/19.

Accession Number: 20191011-5134.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 11, 2019.
Nathaniel J. Davis, Sr.,
Deputy Secretary.

[FR Doc. 2019-22787 Filed 10-17-19; 8:45 am]

BILLING CODE 6717-01-P